ENVIRONMENTAL PROTECTION AGENCY

[FRL-6997-7]

RIN 2040-AB75

Meetings of the Arsenic Cost Working Group of the National Drinking Water Advisory Council; Notice of Public Meeting

AGENCY: Environmental Protection Agency.

ACTION: Notice.

SUMMARY: Under section 10(a)(2) of Public Law 92-423, “The Federal Advisory Committee Act,” notice is hereby given that three meetings of the Arsenic Cost Working Group of the National Drinking Water Advisory Council established under the Safe Drinking Water Act, as amended (42 U.S.C. S300f et seq.), will be held on June 28 and 29, 2001, in Denver Colorado; July 9 and 10, 2001 in Phoenix Arizona; and July 19 and 20 in Washington, DC. The first meeting of this working group was held on May 29 and 30, 2001. These meetings are open to the public, but from past experience, seating will likely be limited.

Following the January 22, 2001 Federal Register promulgation of the arsenic rule, a number of concerns were raised to EPA by States, public water systems, and other stakeholders regarding the adequacy of science and the basis for national cost estimates underlying the rule. Because of the importance of the arsenic rule and the national debate surrounding it related to science and costs, EPA's Administrator publicly announced on March 20, 2001, that the Agency would take additional steps to reassess the scientific and cost issues associated with this rule and seek further public input on each of these important issues.

The purpose of these meetings is to bring nationally recognized technical experts together to review the cost of compliance estimates associated with the final arsenic in drinking water rule. The meetings are open to the public to observe. The working group members are meeting to: (1) Gather information; and (2) analyze relevant issues and facts. Statements from the public will be taken if time permits.

DATES: The meetings will be held on June 28 and 29, 2001, in Denver, Colorado; July 9 and 10, 2001 in Phoenix, Arizona and July 19 and 20 in Washington, DC.

ADDRESSES: Please contact the Safe Drinking Water Hotline (800) 426-4791 for the addresses for these meetings. The addresses were not available at the time that this document was submitted for publication.

FOR FURTHER INFORMATION CONTACT: For more information on the location and times of these meetings, or general background information please contact the Safe Drinking Water Hotline, phone: (800) 426-4791 or (703) 285-1093, e-mail: hotline-sdwa@epa.gov. For technical information contact Amit Kapadia, Acting Designated Federal Officer for the Arsenic Cost Working Group, U.S. EPA, Office of Ground Water and Drinking Water, Mailcode 4607, 1200 Pennsylvania Avenue, NW., Washington, DC 20460. Phone number: (202)-260-1688. E-mail: kapadia.amit@epa.gov.

Cynthia C. Dougherty,
Director, Office of Ground Water and Drinking Water.

[FR Doc. 01-15147 Filed 6-14-01; 8:45 am]

BILLING CODE 6560-50-P